DEPARTMENT OF TRANSPORTATION

Federal Highway Administration

[Docket No. FHWA 2009-0115]

Agency Information Collection Activities: Notice of Request for Extension of Currently Approved Information Collection

AGENCY: Federal Highway Administration (FHWA), DOT.

ACTION: Notice and request for comments.

SUMMARY: The FHWA invites public comments about our intention to request the Office of Management and Budget's (OMB) approval for the renewal of a currently approved information collection that is summarized below under SUPPLEMENTARY INFORMATION. We are required to publish this notice in the Federal Register by the Paperwork Reduction Act of 1995.

DATES: Please submit comments by January 4, 2010.

ADDRESSES: You may submit comments identified by DOT Docket ID Number FHWA-2009-0115, by any of the following methods:

Web Site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue, SE., Washington, DC 20590-0001.

Hand Delivery or Courier: U.S. Department of Transportation, West Building Ground Floor, Room W12-140, 1200 New Jersey Avenue, SE., Washington, DC 20590, between 9 a.m. and 5 p.m. ET, Monday through Friday, except Federal holidays.

FOR FURTHER INFORMATION CONTACT: Mr. Raj Ailaney, Office of Bridge Technology, HIBT-1, (202) 366-6749, Fax (202) 366-3077, or e-mail Raj.Ailaney@dot.gov. For legal questions, please contact Mr. Robert Black, Office of the Chief Counsel, (202) 366-1359, robert.black@dot.gov; Federal Highway Administration, Department of Transportation, Room E84-461, 1200 New Jersey Avenue, SE., Washington, DC 20590. Office hours are from 7:45 a.m. to 4:15 p.m., Monday through Friday, except Federal holidays.

SUPPLEMENTARY INFORMATION: Title: Innovative Bridge Research and Deployment (IBRD) Program.

Background: The Innovative Bridge Research and Deployment (IBRD) program was established by the passage of Safe, Accountable, Flexible, Efficient Transportation Equity Act: A Legacy for Users (SAFETEA-LU), Public Law 109-59 on Aug. 10, 2005. Per Section 5202(b)(1) of SAFETEA-LU, the Secretary shall establish and carry out a program to promote, demonstrate, evaluate, and document the application of innovative designs, materials, and construction methods in the construction, repair, and rehabilitation of bridges and other highway structures.

This program was funded by SAFETEA-LU, Section 5101(a)(1) at $13.1 M for each of the fiscal years 2005 through 2009. Of this amount, $4.125 M for fiscal years 2006 through 2009 was directed to conduct research and deploy technologies related to high-performance concrete bridges. The actual amount available varied in yearly congressional appropriations. For fiscal year 2008, Congress rescinded the IBRD program. Under the current Continuing Resolution, the IBRD Program is authorized and continued for FY 2010.

The IBRD activities include identification and selection of candidate projects from 50 State DOTs, Puerto Rico and the District of Columbia, which meet one or more goals of the program as established by the Congress. Projects may be selected that meet one or more program goals as follows:

A. The development of new, cost-effective, innovative highway bridge applications;

B. The development of construction techniques to increase safety and reduce construction time and traffic congestion;

C. The development of engineering design criteria for innovative products, materials, and structural systems for use in highway bridges and structures;

D. The reduction of maintenance costs and life-cycle costs of bridges, including costs of new construction, replacement or rehabilitation of deficient bridges;

E. The development of highway bridges and structures that will withstand natural disasters;

F. The documentation and wide dissemination of objective evaluations of the performance and benefits of these innovative designs, materials, and construction methods;

G. The effective transfer of resulting information and technology; and

H. The development of improved methods to detect bridge scour and economical bridge foundation designs that will withstand bridge scour.

Additional activities include collection of project information, documentation, promotion and wide dissemination of objective evaluations of the performance and benefits of these innovative designs, materials, and construction methods resulting from the project studies.

Respondents: 50 State Departments of Transportation, the District of Columbia and Puerto Rico.

Frequency: Annual.

Estimated Average Burden per Response: 1 hour.

Estimated Total Annual Burden Hours: It is estimated that a total of 100 responses will be received to give us a total annual burden of 100 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: October 28, 2009.
Tina Campbell,
Acting Chief, Management Programs and Analysis Division.

[FR Doc. E9-26370 Filed 11-2-09; 8:45 am]

BILLING CODE P